DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[3/23/2010 through 3/30/2010]
Firm | Address | Date accepted for filing | Products
Mansfield Plumbing Products, LLC | 150 E. 1st St., Perrysville, OH 44864 | 3/23/2010 | Sinks and lavatories made of porcelain or china.
Hurst Manufacturing | 1551 East Broadway, Princeton, NJ 47670 | 3/24/2010 | Electric Motors, Brushless DC, AC Induction, Stepper and Synchronous.
Adams USA, Inc | 610 S Jefferson Avenue, Cookeville, TN 38501 | 3/25/2010 | The firm produces sporting goods equipment; primary materials include plastic and fabric.
Bailey Knit Corporation | 1606 Sanders Ave, NE., Fort Payne, AL 35967 | 3/25/2010 | The firm produces socks; primary materials include cotton and synthetic fibers.
Development Associates, Inc | 300 Old Baptist Road, North Kingston, RI 02852 | 3/25/2010 | Development Associates manufactures polyurethane Resin, clear polyurethane resin—auto grade, non-yellowing, uv stable, mercury free, urethane Adhesive, epoxy primer, wire and cable coating.
Hawaiian Sun Products, Inc | 259 Sand Island Access, Honolulu, HI 96819 | 3/25/2010 | Hawaiian Sun produces tropical fruit juices, preserves, chocolate covered food products, macadamia nuts, and a variety of other food products.
Pierce Aluminum Company, Inc | 34 Forge Park, Franklin, MA 02038 | 3/25/2010 | Pierce Aluminum specializes in aluminum products for use in the marine, transportation, defense, Architectural, and general manufacturing. They also provide finished aluminum products for first line production capabilities for the same industries.
Alpha Machining & Manufacturing, Inc | 1604 N. 161st East Avenue, Tulsa, OK 74116 | 3/29/2010 | Machined parts for the aircraft industry.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the procedures set forth in section 315.9 of EDA's final rule (71 FR 56704) for procedures for requesting a public hearing. The Catalog of Federal Domestic Assistance official program number and title of the program under which these petitions are submitted is 11.313, Trade Adjustment Assistance.

Dated: March 30, 2010.
Bryan Borlik,
Program Director.

[FR Doc. 2010-7587 Filed 4-2-10; 8:45 am]

BILLING CODE 3510-24-P